DEPARTMENT OF THE INTERIOR

Fish and Wildlife Service

50 CFR Part 17

RIN 1018-AF21

Endangered and Threatened Wildlife and Plants; Removing the Bald Eagle in the Lower 48 States From the List of Endangered and Threatened Wildlife; Extension of Public Comment Period

AGENCY: Fish and Wildlife Service, Interior.

ACTION: Proposed rule; extension of comment period.

SUMMARY: We, the U.S. Fish and Wildlife Service (the Service) are extending the comment for the proposed rule re-opening the public comment period on the proposal to remove the bald eagle from the List of Threatened and Endangered Wildlife under the Endangered Species Act. We are also extending the comment period on the proposed rule to establish a regulatory definition of “disturb” under the Bald and Golden Eagle Protection Act, and on the draft National Bald Eagle Management Guidelines via two additional notices published separately in today's issue of the Federal Register. Comments previously submitted need not be resubmitted as they have been incorporated into the public record and will be fully considered in the final decision and rule.

DATES: The public comment period is extended to June 19, 2006. Any comments received after the closing date may not be considered in the final decision on the proposal.

ADDRESSES: You may submit comments and other information, identified by RIN 1018-AF21, by any of the following methods:

• Mail: Michelle Morgan, Chief, Branch of Recovery and Delisting, Endangered Species Program, U.S. Fish and Wildlife Service, Headquarters Office, 4401 N. Fairfax Drive, Room 420, Arlington, Virginia 22203. Attn: RIN 1018-AF21.

• Hand Delivery/Courier: Same address as above.

• E-mail: baldeagledelisting@fws.gov. Include “RIN 1018-AF21” in the subject line of the message.

• Federal eRulemaking Portal: http://www.regulations.gov. Follow the instructions for submitting comments.

Comments and materials received for this rule will be available for public inspection, by appointment, during normal business hours at the above address after the close of the comment period. Call (703) 358-2061 to make arrangements.

FOR FURTHER INFORMATION CONTACT: Mary Klee, Biologist, at the Headquarters Office (see ADDRESSES section), or via e-mail at Mary_Klee@fws.gov; telephone (703) 358-2061.

SUPPLEMENTARY INFORMATION:

Background

On February 16, 2006, the U.S. Fish and Wildlife Service (Service) published a re-opening of the comment period on our proposal to remove the bald eagle in the 48 contiguous States from the List of Endangered and Threatened Wildlife under the Endangered Species Act (ESA) (16 U.S.C. 1531 et seq.) (71 FR 8238). In anticipation of possible removal (delisting) of the bald eagle from the list of threatened and endangered species under the ESA, the Service concurrently proposed two other related actions: (1) A notice of availability of draft National Bald Eagle Management Guidelines (71 FR 8309, February 16, 2006); and (2) a proposed regulatory definition of “disturb” under the Bald and Golden Eagle Protection Act (BGEPA) to guide post-delisting bald eagle management (71 FR 8265, February 16, 2006). Due to the complexity of these related actions, we are extending the comment period for each action for an additional 30 days.

Authority

The authority for this action is the Endangered Species Act (16 U.S.C. 1361-1407; 16 U.S.C. 1531-1544; 16 U.S.C. 4201-4245; Pub. L. 99-625, 100 Stat. 3500).

Dated: May 10, 2006.
Marshall P. Jones, Jr.,
Acting Director, Fish and Wildlife Service.

[FR Doc. 06-4606 Filed 5-12-06; 1:17 pm]

BILLING CODE 4310-55-P